NATIONAL SCIENCE FOUNDATION

Advisory Committee for Mathematical and Physical Sciences; Notice of Meeting

In accordance with the Federal Advisory Committee Act (Pub. L. 92-463, as amended), the National Science Foundation (NSF) announces the following meeting:

Name and Committee Code: Advisory Committee for Mathematical and Physical Sciences (#66).

Date and Time: March 10, 2021; 12:00 p.m. to 5:00 p.m.; March 12, 2021; 12:30 p.m. to 4:30 p.m.

Place: NSF, 2415 Eisenhower Avenue, Alexandria, VA 22314 (Virtual attendance only).

To attend the virtual meeting, please send your request for the virtual meeting link to Kathleen McCloud at the following email address: kmccloud@nsf.gov.

Type of Meeting: Open.

Contact Person: Leighann Martin, National Science Foundation, 2415 Eisenhower Avenue, Room C 9000, Alexandria, Virginia 22314; Telephone: 703/292-4659.

Summary of Minutes: Minutes and meeting materials will be available on the MPS Advisory Committee website at http://www.nsf.gov/mps/advisory.jsp or can be obtained from the contact person listed above.

Purpose of Meeting: To provide advice, recommendations and counsel on major goals and policies pertaining to MPS programs and activities.

Agenda

Wednesday, March 10, 2021

• Call to Order and Official Opening of the Meeting

• FACA and COI Briefing

• Approval of Prior Meeting Minutes—Catherine Hunt, MPSAC Chair

• State of MPS

• Industries of the Future (IotF): Biotechnology

• NSF Strategic Plan: Thoughts from the AC

• Discussion of MPSAC Facilities Subcommittee

• COVID-19 impacts—NSF Communities Perspectives

• Preparation for Meeting with NSF Director and COO

• Closing remarks and adjourn for the day

Friday, March 12, 2021

• Call to Order and Official Opening of the 2nd Day

• Industries of the Future (IotF): Advanced Wireless/Spectrum

• Industries of the Future (IotF): Advanced Manufacturing

• Preparation for discussion with NSF Director and COO

• Meeting and discussion with NSF Director and COO

• Debrief and Conclusions

• Adjourn—Sean Jones, Assistant Director, MPS

Dated: February 22, 2021.
Crystal Robinson,
Committee Management Officer.

[FR Doc. 2021-03875 Filed 2-24-21; 8:45 am]

BILLING CODE 7555-01-P